DEPARTMENT OF HEALTH AND HUMAN SERVICES

National Institutes of Health

National Cancer Institute Amended; Notice of Meeting

Notice is hereby given of a change in the meeting of the National Cancer Institute Special Emphasis Panel, November 27, 2012, 8:00 a.m. to November 27, 2012, 3:00 p.m., National Institutes of Health, Neurosciences Building, 6001 Executive Boulevard, Conference Room C, Rockville, MD 20852, which was published in the Federal Register on October 10, 2012, 77 FR 61614.

This notice is amended to change the location, date and time to November 26, 2012, 2:00 p.m. to 4:00 p.m., Executive Plaza North, 6130 Executive Boulevard, Room 6042, Rockville, MD 20852. The meeting is closed to the public.

Dated: October 31, 2012.
Melanie J. Gray,
Program Analyst, Office of Federal Advisory Committee Policy.

[FR Doc. 2012-26988 Filed 11-5-12; 8:45 am]

BILLING CODE 4140-01-P